DEPARTMENT OF AGRICULTURE

Agricultural Marketing Service

7 CFR Parts 925 and 944

[Docket No. AMS-FV-06-0184; FV03-925-1 PR]

Grapes Grown in a Designated Area of Southeastern California and Imported Table Grapes; Reopening and Extension of Comment Period on Changing Regulatory Periods

AGENCY: Agricultural Marketing Service, USDA.

ACTION: Reopening and extension of comment period.

SUMMARY: Notice is hereby given that the comment period on proposed changes in the regulatory periods when minimum grade, size, quality, and maturity requirements apply to southeastern California grapes under Marketing Order No. 925 (order), and to imported grapes under the table grape import regulation is reopened and extended until December 28, 2007.

DATES: Comments must be received by December 28, 2007.

ADDRESSES: Interested persons are invited to submit written comments concerning this proposal. Comments should be sent to the Docket Clerk, Marketing Order Administration Branch, Fruit and Vegetable Programs, AMS, USDA, 1400 Independence Avenue, SW., STOP 0237, Washington, DC 20250-0237; Fax: (202) 720-8938, e-mail: moab.docketclerk@usda.gov, or Internet: http://www.regulations.gov. All comments should reference the docket number and the date and page number of this issue and the proposed rule published in the May 25, 2005 (70 FR 30001) issue of the Federal Register and will be available for public inspection in the office of the Docket Clerk during regular business hours, or can be viewed at: http://www.regulations.gov.

FOR FURTHER INFORMATION CONTACT: Jennifer Garcia, Marketing Specialist, or Kurt Kimmel, Regional Manager, California Marketing Field Office, Marketing Order Administration Branch, Fruit and Vegetable Programs, AMS, USDA, 2202 Monterey Street, Suite 102B, Fresno, California 93721; Telephone: (559) 487-5901, Fax: (559) 487-5906, or e-mail: Jen.Garcia@usda.gov or Kurt.Kimmel@usda.gov.

Small businesses may request information on complying with this regulation by contacting Jay Guerber, Marketing Order Administration Branch, Fruit and Vegetable Programs, AMS, USDA, 1400 Independence Avenue, SW., STOP 0237, Washington, DC 20250-0237; Telephone: (202) 720-2491, Fax: (202) 720-8938, or e-mail: Jay.Guerber@usda.gov.

SUPPLEMENTARY INFORMATION: A proposed rule was issued on May 20, 2005, and published in the Federal Register on May 25, 2005 (70 FR 30001) that would change the regulatory period when the minimum grade, size, quality, and maturity requirements apply to southeastern California grapes under the order and to imported grapes under the table grape import regulation. A notice of extension of the comment period was issued July 20, 2005, and published in the Federal Register on July 25, 2005 (70 FR 42513) which extended the comment period to September 25, 2005.

The comment period was extended again in a notice issued September 23, 2005, and published in the Federal Register on September 27, 2005 (70 FR 56378) which extended the comment period further to November 28, 2005. The comment period was reopened and extended again in a notice issued June 30, 2006, and published in the Federal Register on July 11, 2006 (71 FR 39019), extending the comment period to September 11, 2006.

USDA subsequently updated the statistical information cited in the original proposed rule and reopened the comment period in a notice issued October 18, 2007 and published in the Federal Register on October 25, 2007 (72 FR 60588). The comment period was reopened for a thirty day period ending November 26, 2007.

Prior to the end of the most recent comment period, USDA received additional requests to further extend the comment period to consider the statistical information cited in the notice. USDA is providing a reopening and extension of the comment period to allow all interested parties sufficient time to comment.

USDA is hereby reopening and extending the comment period for 15 additional days or until December 28, 2007. This action is intended to provide interested persons more time to review the proposed rule, perform more complete analysis of statistical data, and submit written comments.

Accordingly, the period in which to file written comments is extended until December 28, 2007. This notice is issued pursuant to the Agricultural Marketing Agreement Act of 1937.

Authority: 7 U.S.C. 601-674.

Dated: December 10, 2007.
Lloyd C. Day,
Administrator, Agricultural Marketing Service.

[FR Doc. 07-6049 Filed 12-10-07; 3:39 pm]

BILLING CODE 3410-02-P